DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 67 FR 78000-78001, dated December 20, 2002) is amended to reorganize the National Center for Injury Prevention and Control.

Section C-B, Organization and Functions, is hereby amended as follows:

After the Office of the Director (CE1), insert the following: Office of Policy, Planning and Evaluation (CE12). (1) Within the policies and guidelines of HHS, PHS, and CDC, conducts NCIPC planning and evaluation activities including tracking program objectives and performing evaluation studies; (2) provides information for the development of NCIPC's annual budget submission and supporting documents; (3) reviews, prepares, and coordinates policy and briefing documents; analyzes and implements policies related to the center; and (4) provides liaison with staff offices and other officials of CDC.

Delete in its entirety the functional statement for the Office of Research Grants (CE3).

After the Division of Unintentional Injury Prevention (CE5), insert the following:

Division of Injury and Disability Outcomes (CE6). (1) Plans, establishes, and evaluates national and state based surveillance systems to monitor the incidence, causes, risk factors, and treatments of outcomes of injuries; (2) coordinates a nationwide program to develop and enhance core injury capacity in public health agencies; (3) evaluates programs to prevent adverse outcomes of injuries or reduce the impact of such injuries on individuals and society; (4) conducts research on the medical aspects of injury, disability and health services for such conditions; (5) supports epidemiological and applied research and demonstration efforts to improve the effectiveness of health care and rehabilitation services and systems; (6) supports surveillance efforts directed at TBI and other national, state and local priorities; (7) collaborates with the Disabilities Prevention Program, National Center for Environmental Health, CDC, in providing technical assistance and consultation to states, communities, and research and academic institutions in the prevention of disabilities due to injuries; (8) ensures integration of research and findings into NCIPC intramural programmatic activities; (9) represents the scientific agendas of the NCIPC extramural research program; (10) serves as the focal point for traumatic head and spinal cord injury activities within CDC; and (11) supports training programs and disseminates research findings to strengthen the competence of practioners and researchers in acute care and rehabilitation.

Dated: February 2, 2003.
William H. Gimson,
Acting Director.

[FR Doc. 03-3438 Filed 1-11-03; 8:45 am]

BILLING CODE 4160-18-M